DEPARTMENT OF COMMERCE

National Oceanic and Atmospheric Administration

50 CFR Part 660

[Docket No. 021209300-3048-02; I.D. 111903C]

Fisheries off West Coast States and in the Western Pacific; Pacific Coast Groundfish Fishery; Annual Specifications and Management Measures; Trip Limit Adjustments; Corrections

AGENCY: National Marine Fisheries Service (NMFS), National Oceanic and Atmospheric Administration (NOAA), Commerce.

ACTION: Inseason adjustments to trip limits and rockfish conservation areas; partial closures of recreational fisheries; corrections; request for comments.

SUMMARY: NMFS announces changes to commercial fisheries trip limits and rockfish conservation areas (RCAs), as well as recreational fisheries closures and prohibitions for the Pacific Coast groundfish fishery. Trip limit adjustments include changes to the limited entry trawl Dover sole, thornyhead, and sablefish (DTS) limits north of 40°10′ N. lat. This action also expands the commercial trawl and non-trawl RCAs as well as the areas closed to recreational fishing to provide more protection for overfished continental shelf species, particularly canary rockfish and lingcod. These changes will be effective for the trawl “A” platoon, as well as the trawl “B” platoon, on November 21, 2003. These actions, which are authorized by the Pacific Coast Groundfish Fishery Management Plan (FMP), will allow fisheries access to more abundant groundfish stocks while protecting overfished and depleted stocks.

DATES: Changes to management measures are effective November 21, 2003, until the 2004 annual specifications and management measures are effective, unless modified, superseded, or rescinded through a publication in the Federal Register. Comments on this rule will be accepted through December 26, 2003.

ADDRESSES: Submit comments to D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Carrie Nordeen or Jamie Goen (Northwest Region, NMFS), phone: 206-526-6140; fax: 206-526-6736; and e-mail: carrie.nordeen@noaa.gov or jamie.goen@noaa.gov.

SUPPLEMENTARY INFORMATION

Electronic Access

This Federal Register document is available on the Government Printing Office's Web site at: http://www.access.gpo.gov/su_docs/ca/docs/aces/aces140.html. Background information and documents are available at the NMFS Northwest Region Web site at: http://www.nwr.noaa.gov/1sustfsh/gdfsh01.htm and at the Pacific Fishery Management Council's Web site at: http://www.pcouncil.org.

Background

The Pacific Coast Groundfish FMP and its implementing regulations at 50 CFR part 660, subpart G, regulate fishing for over 80 species of groundfish off the coasts of Washington, Oregon, and California. Annual groundfish specifications and management measures are initially developed by the Pacific Fishery Management Council (Pacific Council), and are implemented by NMFS. The groundfish specifications include acceptable biological catches (ABCs) and optimum yields (OYs) for groundfish species and species groups. The OYs are the annual harvest targets and management measures are implemented at the start of the season, and adjusted inseason, to allow the fishery to achieve, but not exceed, the OYs for groundfish. The ABCs are the maximum total mortality levels for species or species groups under sustainable management. Should catch levels approach the ABC, total mortality of that species or species group will be minimized in order to prevent exceeding the ABC and overfishing that species or species group. The specifications and management measures for the 2003 fishing year (January 1-December 31, 2003) were initially published in the Federal Register as an emergency rule for January 1-February 28, 2003 (68 FR 908, January 7, 2003) and as a proposed rule for March 1-December 31, 2003 (68 FR 936, January 7, 2003). The emergency rule was amended at 68 FR 4719, January 30, 2003, and the final rule for March 1-December 31, 2003 was published in the Federal Register on March 7, 2003 (68 FR 11182). The final rule has been subsequently amended at 68 FR 18166 (April 15, 2003), at 68 FR 23901 (May 6, 2003), at 68 FR 23924 (May 6, 2003), at 68 FR 32680 (June 2, 2003), at 68 FR 35575 (June 16, 2003), at 68 FR 40187 (July 7, 2003), at 68 FR 43473 (July 23, 2003), at 68 FR 52703 (September 5, 2003), and at 68 FR 60865 (October 24, 2003).

The following changes to current groundfish management measures were recommended by the Pacific Council, in consultation with Pacific Coast Treaty Tribes and the States of Washington, Oregon, and California, at its November 3-7, 2003, meeting in Del Mar, CA.

At the Pacific Council's November 3-7, 2003, meeting, the most recent commercial and recreational catch data were reviewed by the Pacific Council's Groundfish Management Team (GMT) in preparation for recommending inseason adjustments to the Pacific Council. These data included: Commercial landed catch data through the middle of October available in the Pacific Fishery Information Network (PacFIN); estimated discard in the commercial groundfish fisheries; recreational catch estimates through the end of August available in the Recreational Fishery Information Network (RecFIN); as well as estimated recreational catch through the end of October and projected recreational catch through the end of the year compiled by state agency personnel and GMT members. When the GMT reviewed these data, it became apparent that the RecFIN catch estimates for California, specifically nearshore rockfish, canary rockfish, and lingcod, during the months of July and August were significantly higher than the GMT had initially predicted for those months. RecFIN catch estimates for the State of California during July and August are as follows: shallow nearshore rockfish 88.2 mt (88,200 kg), deeper nearshore rockfish 748 mt (748,000 kg), lingcod 509 mt (509,000 kg), and canary rockfish 14 mt (14,000 kg).

While catch rate and the weight of individual fish were above average during this period, the principle factor contributing to the significantly higher than predicted RecFIN catch estimates is the exceptionally high estimates of effort (angler days) for the private and rental boat participants in northern California (north of 34°27′ N. lat.). This higher than expected influx of effort is estimated to have occurred during the first two months (July and August) of the fishery. It may be due, in part, to a NMFS and State of California prohibition on fishing between 40°10′ N. lat. and the U.S./Mexico border for the first six months of 2003.

Combining RecFin catch estimates from California with catch estimates from other recreational and commercial fisheries coastwide produces total mortality estimates that exceed harvest targets for groundfish species and/or species groups. Specifically, the total mortality estimate for canary rockfish, an overfished species, through October is 52 mt (52,000 kg), as compared to its 2003 OY of 44 mt (44,000 kg) and ABC of 272 mt (272,000 kg); and the total mortality estimate for lingcod, another overfished species, through October is 956.4 mt (956,400 kg), as compared to its 2003 OY of 651 mt (651,000 kg) and ABC of 841 mt (841,000 kg). Additionally, the California state harvest guidelines for shallow nearshore rockfish (105 mt (105,000 kg)) and deeper nearshore rockfish (54 mt (54,000 kg)) are also predicted to be exceeded by the end of October.

Because of the magnitude of RecFIN catch estimates for the California recreational groundfish fisheries during July and August and its implications for other Pacific Coast groundfish fisheries for the remainder of the year, the California Department of Fish and Game (CDFG) staff thought these catch estimates warranted evaluation. Therefore, CDFG staff explored these data by stratifying RecFIN catch estimates by area (Area One is between 42°00′ N. lat. (Oregon/California border) and 40°10′ N. lat. and Area Two is between 40°10′ N. lat. and the 34°27′ N. lat.) as well as applying a historical effort estimate to replace the exceptionally high RecFIN effort estimate for July and August 2003. The historical estimate used was the next highest effort estimate from the July and August period which occurred during 1985. When RecFIN catch estimates were stratified by applying the effort and catch per unit effort (CPUE) for the two areas, the total mortality estimates for canary rockfish (48.3 mt (48,300 kg)) and lingcod (928.2 mt (928,200 kg)) were slightly lower than those estimated by unadjusted RecFIN data. When the unusually high RecFIN effort estimate for July and August was treated as an anomaly and replaced with the historical estimate described above, the estimated total mortality for canary rockfish was similar to the stratified estimate (47.8 mt (47,800 kg)). However, this technique of adjusting the RecFIN effort estimate reduced the total mortality estimate for lingcod to 821.2 mt (821,200 kg), a harvest level that still exceeds the lingcod OY but is about 20 mt (20,000 kg) below the lingcod ABC.

The Pacific Council reviewed RecFIN catch estimates, data presented by CDFG, statements on inseason adjustments prepared by the GMT and Groundfish Advisory Panel (GAP), as well as public testimony before recommending inseason adjustments to groundfish management measures for the remainder of 2003. In order to keep the harvest of canary rockfish and lingcod within levels that allow continued rebuilding, as well as minimizing the mortality of California nearshore rockfish species, the Pacific Council was faced with the need to recommend drastic inseason adjustments. In an effort to continue sustainable groundfish management while recognizing the economic importance of allowing fishery access to more abundant groundfish stocks, the Pacific Council recommended a series of inseason adjustments to groundfish management measures that would provide some fishery opportunities with minimal mortality of canary rockfish and lingcod.

Trawl Rockfish Conservation Area (RCA) Coastwide

In order to provide some year-end fishing opportunity for the trawl fleet while protecting canary rockfish and lingcod, the trawl RCA (the area closed to fishing for groundfish with trawl gear) is expanded in size for the remainder of the year to extend from the shoreline to specific latitude and longitude coordinates that approximate the 200-fm (366-m) depth contour and are modified to allow fishing for petrale sole. This increase in the size of the trawl RCA results in a change from the previously scheduled eastern trawl RCA boundary. That previously scheduled eastern trawl RCA boundary consisted of specific latitude and longitude coordinates approximating the 50-fm (91-m) depth contour between the U.S./Canada border and 40°10′ N. lat., coordinates approximating the 60-fm (110-m) depth contour between 40°10′ N. lat. and 34°27′ N. lat., and coordinates approximating the 100-fm (183-m) depth contour between 34°27′ N. lat. and the U.S./Mexico border. Expanding this closed area is intended to protect canary rockfish and lingcod by prohibiting trawling over the continental shelf, where canary rockfish and lingcod are found.

Year-end fishery access to deepwater, slope species, specifically petrale sole, is economically important to the limited entry trawl groundfish fleet. According to PacFIN, the coastwide exvessel price for petrale sole is currently averaging about one dollar per pound and last year's exvessel revenue generated by petrale sole landed with trawl gear was over three and a half million dollars. During winter months (November—February), petrale sole aggregate in certain areas along the coast to spawn. Within these “petrale sole areas”, petrale sole can be harvested with a lower bycatch rate than in other areas. Because canary rockfish are typically found at depths shallower than 150-fm (274-m), allowing the petrale sole fishery to continue as previously scheduled is not predicted to result in additional mortality of canary rockfish. Using NMFS West Coast Groundfish Observer data, the effects of allowing the slope/petrale sole fishery to continue as previously scheduled is predicted to result in about 1 mt (1,000 kg) of additional lingcod take by the end of 2003.

In the inseason adjustment to Pacific Coast annual specifications and management measures for October—December (68 FR 60865, October 24, 2003), NMFS announced a western trawl RCA boundary with specific latitude and longitude coordinates approximating the 200-fm (366-m) depth contour which was modified to allow for petrale sole fishing. That boundary contained several errors, specifically it omitted boundary modifications to allow for fishing in the petrale sole areas off the states of Oregon and California. Therefore, this inseason action corrects that 200-fm (366-m) trawl RCA boundary by modifying it to allow for petrale fishing in areas where petrale sole aggregate.

Non-Trawl Rockfish Conservation Area (RCA) Coastwide

In 2003, the Pacific Coast non-trawl fleet has been severely constrained by low trip limits as well as limited nearshore fishing opportunities. Throughout the year, the non-trawl RCA (the area closed to fishing for groundfish with non-trawl gear) has extended from an eastern boundary ranging between the shoreline and specific latitude and longitude coordinates approximating the 30-fm (55-m) depth contour out to a western boundary ranging between specific latitude and longitude coordinates approximating the 100-fm (183-m) and 150-fm (274-m) depth contours. These management measures were designed to limit the incidental take of overfished groundfish species.

Much like inseason adjustments to the trawl RCA, the non-trawl RCA is similarly expanded to prevent further mortality of canary rockfish, lingcod, and California's nearshore rockfish species. In an effort to protect these species while still allowing access to more abundant deepwater groundfish stocks, the non-trawl RCA is expanded for the remainder of the year to extend from the shoreline to specific latitude and longitude coordinates that approximate the 200-fm (366-m) depth contour, modified to allow fishing for petrale sole, between the U.S./Canada border and 46°16′ N. lat. and from the shoreline to specific latitude and longitude coordinates that approximate the 150-fm (274-m) depth contour between 46°16′ N. lat. and the U.S./Mexico border. This increase in the size of the non-trawl RCA results in a change from the previously scheduled non-trawl RCA. The previously scheduled non-trawl RCA boundary extended from the shoreline to specific latitude and longitude coordinates approximating the 100-fm (183-m) depth contour between the U.S./Canada border and 46°16′ N. lat., from specific latitude and longitude coordinates approximating the 27-fm (49-m) to the 100-fm (183-m) depth contours between the 46°16′ N. lat. and 40°10′ N. lat., from specific latitude and longitude coordinates approximating the 20-fm (37-m) to the 150-fm (274-m) depth contours between 40°10′ N. lat. and 34°27′ N. lat., and from the 30-fm (55-m) to the 150-fm (274-m) depth contours between 34°27′ N. lat. and the U.S./Mexico border.

The GMT predicted that allowing fishing to continue seaward of the expanded non-trawl RCA for the remainder of the year would result in no additional mortality of canary rockfish or California nearshore rockfish species and only minimal additional mortality of lingcod. No additional mortality of canary rockfish or the California nearshore rockfish species is predicted because these species are typically found at depths shallower than 150-fm (274-m). The GMT predicted that additional mortality of lingcod from the remaining non-trawl fishery would be minimal. According to NMFS shelf and slope survey data from the summers of 1984 to the present, 1 percent of lingcod catches occurred at depths greater than 150-fm (274-m) between the U.S./Canada border and 40°10′ N. lat. and 34 percent of lingcod catches occurred at depths greater than 150-fm (274-m) between 40°10′ N. lat. and the U.S./Mexico border. Because this adjustment to the non-trawl RCA is occurring from November 21, 2003, through December 31, 2003 the GMT has predicted that impacts on lingcod would be further reduced because lingcod typically move into shallower waters (less than 100-fm (183-m)) to spawn during winter months.

Limited Entry DTS Trawl Limits North of 40°10′ N. lat

Throughout 2003, differential trip limits, or trip limits that vary with gear type, have been in place for DTS (Dover sole, thornyheads, sablefish) species in the area between the U.S./Canada border and 40°10′ N. lat. Specifically, vessels that use large footrope or midwater trawl gear are offered higher DTS trip limits than those vessels that use small footrope gear. Because RCA regulations specify that small footrope and midwater trawl gear are the only limited entry trawl gears permitted shoreward of the trawl RCA while all limited entry trawl gears (large and small footrope, midwater) are permitted seaward of the RCA, the intent of the differential trip limits is to encourage fishing seaward of the trawl RCA rather than shoreward of the trawl RCA.

As discussed earlier, this inseason action is expanding the eastern boundary of the trawl RCA to the shoreline. Thus, there is no trawling opportunity shoreward of the trawl RCA from November 21, 2003, through December 31, 2003, and no need for differential trip limits. Therefore, the Pacific Council recommended that the differential DTS trip limits between the U.S./Canada border and 40°10′ N. lat. be removed for November and December. The previously scheduled DTS trip limits associated with the use of large footrope or midwater trawl gear (i.e., 7,000 lb (3,175 kg) per 2 months of sablefish, 4,500 lb (2,041 kg) per 2 months of longspine thornyhead, 900 lb (408 kg) per 2 months of shortspine thornyhead, and 30,000 lb (13,608 kg) per 2 months of Dover sole) will be available to vessels using all limited entry trawl gear types. This change is not expected to negatively affect continental shelf overfished species, because those waters are protected by the trawl RCA. Additionally, because this change does not increase overall limits for deepwater species, NMFS does not expect this action to increase the impact of the fishery on continental slope overfished species.

Recreational Groundfish Fisheries Coastwide

Much like the Pacific Coast commercial fisheries, the Pacific Coast recreational fisheries have been restricted in recent years to rebuild overfished groundfish species. Management measures intended to reduce the incidental take of overfished species in recreational fisheries include such things as decreased bag limits, reduced season length, and closed areas. An example of these restrictive management measures was evident this year in the California recreational fishery that occurs between 40°10′ N. lat. and the U.S./Mexico border. Historically, this recreational fishery has had year-round fishing opportunities. In an effort to keep this fishery's harvest levels within 2003 OYs for overfished species and within California harvest guidelines for target species, the season length for this fishery was reduced to six months and scheduled to extend from July through December. Despite this restricted season length, RecFIN catch estimates for California, specifically nearshore rockfish, canary rockfish, and lingcod, during the months of July and August were significantly higher than predicted. As discussed previously, combining RecFIN catch estimates from California with catch estimates from other recreational and commercial fisheries coastwide produces total mortality estimates which exceed harvest targets for some groundfish species and/or species groups. Therefore, the Pacific Council recommended inseason adjustments to recreational groundfish fisheries coastwide. From November 21, 2003, through December 31, 2003, recreational groundfish fisheries off the State of Washington will be prohibited seaward of the Federal/State three mile boundary. Effective November 13, 2003, the state of Washington took action to prohibit the retention of canary rockfish shoreward of the three mile boundary. Because inclement weather curtails recreational groundfish fisheries off Washington during winter months, the additional mortality of either canary rockfish or lingcod associated with this fishery occurring in State waters is predicted to be near zero. Additionally, recreational fishing for lingcod off Washington closed on October 16, 2003. Off the State of Oregon, recreational groundfish fisheries from November 21, 2003, through December 31, 2003, will be prohibited seaward of specific latitude and longitude coordinates approximating the 27-fm (49-m) depth contour and shoreward of the 27-fm (49-m) depth contour retention of canary rockfish and lingcod will be prohibited. Similarly to Washington, effort in Oregon's recreational groundfish fisheries during November and December is low. Because of this low effort, Oregon Department of Fish and Wildlife has predicted that the additional mortality associated with this fishery would be approximately 0.11 mt (110 kg) of canary rockfish and 0.09 mt (90 kg) of lingcod. Off the state of California, all recreational groundfish fisheries, with the exception of the fixed gear sanddab fishery, will be prohibited from November 21, 2003, through December 31, 2003. Because of the small hooks used in this recreational sanddab fishery, California Department of Fish and Game has predicted that the additional mortality of canary rockfish, lingcod, and California nearshore rockfish species would be near zero.

NMFS Actions

For the reasons stated herein, NMFS concurs with the Pacific Council's recommendations and hereby announces the following changes to the 2003 specifications and management measures (68 FR 11182, March 7, 2003, as amended at 68 FR 18166, April 15, 2003, at 68 FR 23901, May 6, 2003, at 68 FR 23925, May 6, 2003, at 68 FR 32680, June 2, 2003, at 68 FR 35575, June 16, 2003, at 68 FR 40187, July 7, 2003, at 68 FR 43473, July 23, 2003, at 68 FR 52703, September 5, 2003, and at 68 FR 60865, October 24, 2003) to read as follows:

1. On pages 11218-11221, in section IV., under B. Limited Entry Fishery, at the end of paragraph (1), Table 3 (North), Table 3 (South), Table 4 (North), and Table 4 (South) are revised to read as follows:

IV. NMFS Actions

B. Limited Entry Fishery

(1) * * *

BILLING CODE 3510-22-P

* * * * *

2. On pages 11224 and 11225, in section IV., under C. Trip Limits in the Open Access Fishery, at the end of paragraph (1), Table 5 (North) and Table 5 (South) are revised to read as follows:

IV. NMFS Actions

C. Trip Limits in the Open Access Fishery

(1) * * *

BILLING CODE 3510-22-C

* * * * *

3. On page 11226, in section IV., under D. Recreational Fishery, in column 2, paragraph (1)(a) is renumbered as paragraph (1)(a)(i), a new paragraph (1)(a) and paragraph (1)(a)(ii) are added, and paragraph(1)(b) is revised to read as follows:

* * * * *

(1) Washington. For each person engaged in recreational fishing seaward of Washington, the groundfish bag limit is 15 groundfish, including rockfish and lingcod, and is open year-round (except as specified below). The following sublimits and closed areas apply:

(a) Closed Areas.—

(i) Yelloweye Rockfish Conservation Area. The Yelloweye Rockfish Conservation Area, or YRCA, is a “C-shaped” area which is closed to recreational groundfish and halibut fishing. The YRCA is defined by latitude and longitude coordinates specified at 50 CFR 660.304(d).

(ii) Federal waters (3-200 nautical miles). Recreational groundfish fishing is prohibited in Federal waters, from 3 to 200 nautical miles offshore from November 21, 2003, through December 31, 2003.

(b) Rockfish. In areas seaward of Washington that are open to recreational groundfish fishing, there is a 10 rockfish per day bag limit. Taking and retaining yelloweye rockfish and canary rockfish is prohibited.

* * * * *

4. On page 11226, in section IV., under D. Recreational Fishery, in column 2, paragraph (2) is revised to read as follows:

* * * * *

(2) Oregon. The bag limits for each person engaged in recreational fishing seaward of Oregon is 10 marine fish per day, which excludes salmon, tuna, surfperch, sanddab, lingcod, and baitfish, but which includes rockfish and other groundfish. The minimum size limit for cabezon retained in the recreational fishery is 15 in (38 cm). Within the 10 marine fish bag limit, no more than 1 may be yelloweye rockfish and taking and retaining canary rockfish and lingcod is prohibited. From November 21, 2003, through December 31, 2003, recreational groundfish fishing is prohibited seaward of specific latitude and longitude coordinates approximating the 27-fm (49-m) depth contour off Oregon. Coordinates for specific latitude and longitude coordinates approximating the 27-fm (49-m) depth contour are listed in section IV.A.(19)(e)(i). When the all-depth recreational fisheries for Pacific halibut (Hippoglossus stenolopis) are open, the first Pacific halibut taken of 32 in (81 cm) or greater in length may be retained. During the all-depth recreational fisheries for Pacific halibut, vessels with halibut on board may not take and retain, possess or land yelloweye rockfish or canary rockfish.

* * * * *

5. On pages 11226 and 11227, in section IV., under D. Recreational Fishery, paragraphs (3)(a), (3)(a)(i), (3)(a)(ii), (3)(b)(ii) through (iv) are revised to read as follows:

* * * * *

(3) California. Seaward of California (north and south of 40°10′ N. lat.), California law provides that, in times and areas when the recreational fishery is open, there is a 20-fish bag limit for all species of finfish, within which no more than 10 fish of any one species may be taken or possessed by any one person. Retention of cowcod is prohibited in California's recreational fishery all year in all areas. Retention of all federally managed groundfish species, except sanddabs, is prohibited in the recreational fishery seaward of California November 21, 2003, through December 31, 2003.

(a) North of 40°10′ N. lat. In times and areas when the recreational fishery is open and for each person engaged in recreational fishing seaward of California north of 40°10′ N. lat., the following seasons, bag limits, and size limits apply:

(i) RCG Complex. The California rockfish, cabezon, greenling complex (RCG Complex), as defined in State regulations (Section 1.91, Title 14, California Code of Regulations), includes all rockfish, kelp greenling, rock greenling, and cabezon. This category does not include California scorpionfish, also known as “sculpin.” Recreational fishing for the RCG Complex is prohibited.

(ii) Lingcod. Recreational fishing for lingcod is prohibited.

* * * * *

(b) South of 40°10′ N. lat. In times and areas when the recreational fishery is open and for each person engaged in recreational fishing seaward of California south of 40°10′ N. lat., the following seasons, bag limits, size limits and closed areas apply:

(ii) RCG Complex. The California rockfish, cabezon, greenling complex (RCG Complex), as defined in State regulations (Section 1.91, Title 14, California Code of Regulations), includes all rockfish, kelp greenling, rock greenling, and cabezon. This category does not include California scorpionfish, also known as “sculpin.” Recreational fishing for the RCG Complex is prohibited.

(iii) California scorpionfish. California scorpionfish only occur south of 40°10′ N. lat. Recreational fishing for the California scorpionfish is prohibited.

(iv) Lingcod. Recreational fishing for lingcod is prohibited.

* * * * *

Additionally, there is a correction to the western trawl RCA boundary with specific latitude and longitude coordinates approximating the 200-fm (366-m) depth contour (modified to allow fishing for petrale sole) that was announced in an inseason action on October 24, 2003 (68 FR 60865).

1. On pages 60867-60870, in section IV., under A. General Definitions, paragraph (19)(e)(xviii) is revised to read as follows:

(xviii) * * *

* * * * *

(72) 46°15.99′ N. lat., 124°24.88′ W. long.;

(73) 46°14.22′ N. lat., 124°26.28′ W. long.;

(74) 46°11.53′ N. lat., 124°39.58′ W. long.;

(75) 46°08.77′ N. lat., 124°41.71′ W. long.;

(76) 46°05.86′ N. lat., 124°42.27′ W. long.;

(77) 46°03.85′ N. lat., 124°48.20′ W. long.;

(78) 46°02.34′ N. lat., 124°48.51′ W. long.;

(79) 45°58.99′ N. lat., 124°44.42′ W. long.;

(80) 45°49.74′ N. lat., 124°43.69′ W. long.;

(81) 45°49.68′ N. lat., 124°42.37′ W. long.;

(82) 45°40.83′ N. lat., 124°40.90′ W. long.;

(83) 45°34.88′ N. lat., 124°32.58′ W. long.;

(84) 45°13.04′ N. lat., 124°21.92′ W. long.;

(85) 45°00.17′ N. lat., 124°29.28′ W. long.;

(86) 44°50.99′ N. lat., 124°35.40′ W. long.;

(87) 44°46.87′ N. lat., 124°38.20′ W. long.;

(88) 44°48.25′ N. lat., 124°40.62′ W. long.;

(89) 44°41.34′ N. lat., 124°49.20′ W. long.;

(90) 44°23.30′ N. lat., 124°50.17′ W. long.;

(91) 44°13.19′ N. lat., 124°58.66′ W. long.;

(92) 43°57.37′ N. lat., 124°58.71′ W. long.;

(93) 43°52.32′ N. lat., 124°49.43′ W. long.;

(94) 43°51.35′ N. lat., 124°37.94′ W. long.;

(95) 43°49.73′ N. lat., 124°40.26′ W. long.;

(96) 43°39.06′ N. lat., 124°38.55′ W. long.;

(97) 43°28.85′ N. lat., 124°39.99′ W. long.;

(98) 43°20.22′ N. lat., 124°43.05′ W. long.;

(99) 43°13.29′ N. lat., 124°47.00′ W. long.;

(100) 43°10.64′ N. lat., 124°49.95′ W. long.;

(101) 43°04.26′ N. lat., 124°53.05′ W. long.;

(102) 42°53.93′ N. lat., 124°54.60′ W. long.;

(103) 42°47.57′ N. lat., 124°48.12′ W. long.;

(104) 42°46.19′ N. lat., 124°44.52′ W. long.;

(105) 42°41.75′ N. lat., 124°44.69′ W. long.;

(106) 42°38.81′ N. lat., 124°43.09′ W. long.;

(107) 42°31.83′ N. lat., 124°46.23′ W. long.;

(108) 42°32.08′ N. lat., 124°43.58′ W. long.;

(109) 42°30.96′ N. lat., 124°43.84′ W. long.;

(110) 42°28.41′ N. lat., 124°49.17′ W. long.;

(111) 42°24.80′ N. lat., 124°45.93′ W. long.;

(112) 42°19.71′ N. lat., 124°41.60′ W. long.;

(113) 42°15.12′ N. lat., 124°38.34′ W. long.;

(114) 42°12.35′ N. lat., 124°38.09′ W. long.;

(115) 42°04.38′ N. lat., 124°36.83′ W. long.;

(116) 41°59.98′ N. lat., 124°36.80′ W. long.;

(117) 41°47.79′ N. lat., 124°29.48′ W. long.;

(118) 41°21.01′ N. lat., 124°29.01′ W. long.;

(119) 41°13.50′ N. lat., 124°24.40′ W. long.;

(120) 41°11.00′ N. lat., 124°22.99′ W. long.;

(121) 41°06.69′ N. lat., 124°23.30′ W. long.;

(122) 40°54.73′ N. lat., 124°28.15′ W. long.;

(123) 40°53.95′ N. lat., 124°26.04′ W. long.;

(124) 40°49.96′ N. lat., 124°26.04′ W. long.;

(125) 40°44.49′ N. lat., 124°30.81′ W. long.;

(126) 40°40.58′ N. lat., 124°32.06′ W. long.;

(127) 40°36.09′ N. lat., 124°40.11′ W. long.;

(128) 40°34.19′ N. lat., 124°41.20′ W. long.;

(129) 40°32.93′ N. lat., 124°41.86′ W. long.;

(130) 40°31.28′ N. lat., 124°40.98′ W. long.;

(131) 40°29.68′ N. lat., 124°38.06′ W. long.;

(132) 40°25.01′ N. lat., 124°36.36′ W. long.;

(133) 40°22.28′ N. lat., 124°31.83′ W. long.;

(134) 40°16.96′ N. lat., 124°31.91′ W. long.;

(135) 40°17.59′ N. lat., 124°45.28′ W. long.;

(136) 40°13.23′ N. lat., 124°32.40′ W. long.;

(137) 40°10.14′ N. lat., 124°24.55′ W. long.;

(138) 40°06.45′ N. lat., 124°19.24′ W. long.;

(139) 40°07.08′ N. lat., 124°17.80′ W. long.;

(140) 40°05.55′ N. lat., 124°18.11′ W. long.;

(141) 40°04.74′ N. lat., 124°18.11′ W. long.;

(142) 40°02.35′ N. lat., 124°16.53′ W. long.;

(143) 40°01.13′ N. lat., 124°12.98′ W. long.;

(144) 40°01.55′ N. lat., 124°09.80′ W. long.;

(145) 39°58.54′ N. lat., 124°12.43′ W. long.;

(146) 39°55.72′ N. lat., 124°07.44′ W. long.;

(147) 39°42.64′ N. lat., 124°02.52′ W. long.;

(148) 39°35.96′ N. lat., 123°59.47′ W. long.;

(149) 39°34.61′ N. lat., 123°59.58′ W. long.;

(150) 39°34.79′ N. lat., 123°58.47′ W. long.;

(151) 39°33.79′ N. lat., 123°56.77′ W. long.;

(152) 39°33.03′ N. lat., 123°57.06′ W. long.;

(153) 39°32.20′ N. lat., 123°59.12′ W. long.;

(154) 39°07.81′ N. lat., 123°59.06′ W. long.;

(155) 39°03.06′ N. lat., 123°57.77′ W. long.;

(156) 38°52.26′ N. lat., 123°56.18′ W. long.;

(157) 38°50.21′ N. lat., 123°55.48′ W. long.;

(158) 38°46.81′ N. lat., 123°51.49′ W. long.;

(159) 38°45.28′ N. lat., 123°51.55′ W. long.;

(160) 38°42.76′ N. lat., 123°49.73′ W. long.;

(161) 38°41.53′ N. lat., 123°47.80′ W. long.;

(162) 38°41.41′ N. lat., 123°46.74′ W. long.;

(163) 38°38.01′ N. lat., 123°45.74′ W. long.;

(164) 38°37.19′ N. lat., 123°43.98′ W. long.;

(165) 38°35.26′ N. lat., 123°41.99′ W. long.;

(166) 38°33.38′ N. lat., 123°41.76′ W. long.;

(167) 38°19.95′ N. lat., 123°32.90′ W. long.;

(168) 38°14.38′ N. lat., 123°25.51′ W. long.;

(169) 38°09.39′ N. lat., 123°24.39′ W. long.;

(170) 38°10.09′ N. lat., 123°27.21′ W. long.;

(171) 38°03.76′ N. lat., 123°31.90′ W. long.;

(172) 38°02.06′ N. lat., 123°31.26′ W. long.;

(173) 38°00.01′ N. lat., 123°29.56′ W. long.;

(174) 37°58.07′ N. lat., 123°27.21′ W. long.;

(175) 37°55.02′ N. lat., 123°27.44′ W. long.;

(176) 37°51.39′ N. lat., 123°25.22′ W. long.;

(177) 37°43.94′ N. lat., 123°11.49′ W. long.;

(178) 37°35.96′ N. lat., 123°02.23′ W. long.;

(179) 37°23.48′ N. lat., 122°57.76′ W. long.;

(180) 37°23.23′ N. lat., 122°53.78′ W. long.;

(181) 37°13.97′ N. lat., 122°49.91′ W. long.;

(182) 37°09.98′ N. lat., 122°45.61′ W. long.;

(183) 37°07.38′ N. lat., 122°46.38′ W. long.;

(184) 37°00.64′ N. lat., 122°37.70′ W. long.;

(185) 36°57.40′ N. lat., 122°28.36′ W. long.;

(186) 36°59.21′ N. lat., 122°25.64′ W. long.;

(187) 36°56.90′ N. lat., 122°25.42′ W. long.;

(188) 36°57.43′ N. lat., 122°22.55′ W. long.;

(189) 36°55.43′ N. lat., 122°22.43′ W. long.;

(190) 36°52.27′ N. lat., 122°13.16′ W. long.;

(191) 36°47.10′ N. lat., 122°07.53′ W. long.;

(192) 36°47.10′ N. lat., 122°02.08′ W. long.;

(193) 36°43.76′ N. lat., 121°59.15′ W. long.;

(194) 36°38.84′ N. lat., 122°02.20′ W. long.;

(195) 36°30.82′ N. lat., 122°01.13′ W. long.;

(196) 36°30.94′ N. lat., 122°00.54′ W. long.;

(197) 36°25.99′ N. lat., 121°59.50′ W. long.;

(198) 36°22.00′ N. lat., 122°01.02′ W. long.;

(199) 36°19.01′ N. lat., 122°05.01′ W. long.;

(200) 36°14.73′ N. lat., 122°01.55′ W. long.;

(201) 36°14.03′ N. lat., 121°58.09′ W. long.;

(202) 36°09.74′ N. lat., 121°45.01′ W. long.;

(203) 36°06.75′ N. lat., 121°40.73′ W. long.;

(204) 35°58.19′ N. lat., 121°34.63′ W. long.;

(205) 35°52.21′ N. lat., 121°32.46′ W. long.;

(206) 35°51.21′ N. lat., 121°30.94′ W. long.;

(207) 35°46.28′ N. lat., 121°30.29′ W. long.;

(208) 35°33.67′ N. lat., 121°20.09′ W. long.;

(209) 35°31.33′ N. lat., 121°15.22′ W. long.;

(210) 35°23.29′ N. lat., 121°11.41′ W. long.;

(211) 35°15.26′ N. lat., 121°04.49′ W. long.;

(212) 35°07.05′ N. lat., 121°00.26′ W. long.;

(213) 35°07.46′ N. lat., 120°57.10′ W. long.;

(214) 34°44.29′ N. lat., 120°54.28′ W. long.;

(215) 34°44.23′ N. lat., 120°58.27′ W. long.;

(216) 34°32.33′ N. lat., 120°50.23′ W. long.;

(217) 34°27.00′ N. lat., 120°42.55′ W. long.;

(218) 34°17.72′ N. lat., 120°19.26′ W. long.;

(219) 34°22.45′ N. lat., 120°12.81′ W. long.;

(220) 34°21.36′ N. lat., 119°54.88′ W. long.;

(221) 34°09.95′ N. lat., 119°46.18′ W. long.;

(222) 34°09.08′ N. lat., 119°57.53′ W. long.;

(223) 34°07.53′ N. lat., 120°06.35′ W. long.;

(224) 34°10.54′ N. lat., 120°19.07′ W. long.;

(225) 34°14.68′ N. lat., 120°29.48′ W. long.;

(226) 34°09.51′ N. lat., 120°38.32′ W. long.;

(227) 34°03.06′ N. lat., 120°35.54′ W. long.;

(228) 33°56.39′ N. lat., 120°28.47′ W. long.;

(229) 33°50.25′ N. lat., 120°09.43′ W. long.;

(230) 33°37.96′ N. lat., 120°00.08′ W. long.;

(231) 33°34.52′ N. lat., 119°51.84′ W. long.;

(232) 33°35.51′ N. lat., 119°48.49′ W. long.;

(233) 33°42.76′ N. lat., 119°47.77′ W. long.;

(234) 33°53.62′ N. lat., 119°53.28′ W. long.;

(235) 33°57.61′ N. lat., 119°31.26′ W. long.;

(236) 33°56.34′ N. lat., 119°26.04′ W. long.;

(237) 33°57.79′ N. lat., 119°26.85′ W. long.;

(238) 33°58.88′ N. lat., 119°20.06′ W. long.;

(239) 34°02.65′ N. lat., 119°15.11′ W. long.;

(240) 33°59.02′ N. lat., 119°02.99′ W. long.;

(241) 33°57.61′ N. lat., 118°42.07′ W. long.;

(242) 33°50.76′ N. lat., 118°37.98′ W. long.;

(243) 33°38.41′ N. lat., 118°17.03′ W. long.;

(244) 33°37.14′ N. lat., 118°18.39′ W. long.;

(245) 33°35.51′ N. lat., 118°18.03′ W. long.;

(246) 33°30.68′ N. lat., 118°10.35′ W. long.;

(247) 33°32.49′ N. lat., 117°51.85′ W. long.;

(248) 32°58.87′ N. lat., 117°20.36′ W. long.; and

(249) 32°35.53′ N. lat., 117°29.67′ W. long.

* * * * *

Classification

These actions are authorized by the Pacific Coast groundfish FMP and its implementing regulations, and are based on the most recent data available. The aggregate data upon which these actions are based are available for public inspection at the Office of the Administrator, Northwest Region, NMFS, (see ADDRESSES) during business hours.

The Assistant Administrator for Fisheries (AA), NMFS, finds good cause to waive the requirement to provide prior notice and opportunity for public comment on this action pursuant to 5 U.S.C. 553(b)(B), because providing prior notice and opportunity for comment would be impracticable. It would be impracticable because affording prior notice and opportunity for public comment would impede the Agency's function of managing fisheries to protect overfished groundfish species while allowing the harvest of more abundant groundfish species. Based on the best available science, it is predicted that harvest levels in the Pacific Coast groundfish fishery exceeded the ABC for lingcod and the OY for canary rockfish, both overfished groundfish species, during October. The inseason adjustments in this document primarily include increases to closed areas, or RCAs, and prohibitions in recreational groundfish fisheries to minimize the total mortality of canary rockfish and lingcod and allow for the continued rebuilding of those overfished stocks. These inseason adjustments must be implemented in a timely manner to reduce the magnitude of overfishing on lingcod and the amount by which the canary rockfish OY is exceeded. Additionally, this inseason action contains a correction to the western boundary of the trawl RCA and non-differential trip limits for DTS species. This correction to the trawl RCA and adjusted DTS trip limits allow fishers to access groundfish allocations without exceeding the OY for those species and with minimal effects on overfished or depleted stocks. Delaying these adjustments could prevent the industry from obtaining the intended economic benefits associated with these adjustments. The Pacific Coast commercial groundfish fishery is managed by trip limits and area closures, most of which are based on a 2-month cumulative period (January-February, March-April, May-June, July-August, September-October, November-December). Because the last 2-month cumulative period began on November 1, 2003, these actions should be implemented as soon as possible to protect overfished groundfish species and allow access to more abundant groundfish stocks. The affected public had the opportunity to comment on these actions at the November 3-7, 2003, Pacific Council meeting in Del Mar, CA. For these reasons, good cause also exists to waive the 30-day delay in effectiveness requirement of 5 U.S.C. 553(d)(3).

These actions are taken under the authority of 50 CFR 300.63(a)(3) and 660.323(b)(1), and are exempt from review under Executive Order 12866.

Authority: 16 U.S.C. 1801 et seq.

Dated: November 21, 2003.
Bruce C. Morehead,
Acting Director, Office of Sustainable Fisheries, National Marine Fisheries Service.

[FR Doc. 03-29584 Filed 11-21-03; 4:50 pm]

BILLING CODE 3510-22-P